DEPARTMENT OF COMMERCE

National Institute of Standards and Technology

[Docket No.: 010924230-1230-01]

RIN 0693-ZA46

State Relations Rapid Response Team (SR3 Team) Grants Program

AGENCY: National Institute of Standards and Technology, Commerce.

ACTION: Notice of Availability of Funds.

SUMMARY: The National Institute of Standards and Technology Manufacturing Extension Partnership program (NIST-MEP) invites proposals from qualified organizations to facilitate dialog among participants in the MEP system and its stakeholders, including state governments, MEP Centers, industry, and NIST. All organizations meeting the eligibility requirements provided herein are invited to submit proposals.

DATES: Proposals from qualified applicants must be received no later than 5:00 PM Eastern Standard Time November 5, 2001.

ADDRESSES: For the SR3 Team Grants Program, each applicant must submit one signed original and two copies of the proposal along with a Grant Application Kit (Standard Form 424 Rev. 7/97, and other required forms/documentation) to: Manufacturing Extension Partnership Program (MEP); ATTN: Jennifer Ruggles; National Institute of Standards and Technology; 100 Bureau Drive, Stop 4800; Gaithersburg, MD 20899-4800; Telephone: (301) 975-4749; E-mail:jruggles@mep.nist.gov; Website: http://www.mep.nist.gov.

FOR FURTHER INFORMATION CONTACT: Jennifer Ruggles; National Institute of Standards and Technology; 100 Bureau Drive, Stop 4800; Gaithersburg, MD 20899-4800; Telephone: (301) 975-4749; E-mail:jruggles@mep.nist.gov. All grants administration questions concerning this program should be directed to the NIST Grants Office at (301) 975-6329; joyce.brigham@nist.gov.

SUPPLEMENTARY INFORMATION: Authority: The authority for the SR3 Team Grants Program is as follows: As authorized by 15 U.S.C. 272 (b)(1) and (c)(17), the NIST 3R3 Team Grants Program conducts a basic and applied research program directly and through grants and cooperative agreements to eligible recipients.

Background: The MEP system of centers and field offices is a federal-state-industry partnership. The strength of this partnership is that it has the potential to integrate federal and state public policy goals, utilizing market forces designed to address the unique needs of individual small manufacturers. This integration is driven in no small part by the nature of funding for individual MEP centers. The stated goal of funding ⅓rd of Center costs from federal investment, ⅓rd from state investment, and ⅓rd from private sources (typically fee for service) reflects this strong desire for an evenly balanced partnership.

On the public sector side of the funding equation, the balance of federal and state investment in the centers reflects the need and desire for balancing U.S. national policy priorities with those of our state partners. Both federal and state partners are interested in addressing the core challenges facing small manufacturers in remaining globally competitive, but the variety of regional economic and political concerns causes disparities between priorities from state to state and between the states and the Federal government. Given the unique nature of the MEP network, successful provision of MEP services for the public benefit depends on the alignment of state policy goals with the goal of improving technology transfer to manufacturers.

Program Description and Objectives: The objective of the SR3 Team Grants Program is to implement strategies that will facilitate dialogue among participants in the MEP system and its stakeholders, including state governments, MEP Centers, industry, and NIST. The primary reasons for encouraging this dialogue are to support the network of manufacturing extension centers by enabling them to respond more effectively to their state investors, and to increase the level of engagement of all state and local technology-oriented economic development partners in the MEP network.

In considering how to implement this project's mission, MEP has identified four three priority strategies for enhancing the MEP-state relationship: (1) Network building, (2) competitive intelligence/knowledge building, and (3) capacity building and technical assistance which are explained in more detail below. The recipient(s) that receive(s) the award(s) should be competent in these areas.

The network building strategy should facilitate networking among state thought leaders, policy makers, and practioners involved in technology-based economic development planning and program implementation. The recipient should understand the needs of state stakeholders and help encourage a dialogue among interested parties, including states, MEP Centers, and industry, about how the MEP partnership best fits into particular state strategies and priorities, and how manufacturers and the public benefit from manufacturing extension activities.

The competitive intelligence/knowledge building strategy should develop information about the current state of the partnership between states, MEP Centers, industry, and NIST through intelligence gathering,'' and provide tools to help the partners in the MEP improve and sustain relationships.

The capacity building and technical assistance strategy should involve the use of highly skilled consultants to: (a) Develop strategies to improve manufacturing extension services by enhancing relationships between Centers and states; and (b) intervene in State/Center relations when communication gaps occur. These consultants should be able to spend time with the Centers, their boards, and/or states on a one-on-one basis to explore the environment and offer solutions to enhance manufacturing extension services by improving states' relationships with Centers. The recipient would be expected to set up high-level meetings and travel to the state stakeholders that can make decisions about the funding and positioning of the Center within the State priorities. To do this most effectively, the recipient should have a database of information about key state leaders that is accessible to partners in the MEP system.

Eligibility: Eligible applicants are institutions of higher education, non-profit organizations, and commercial organizations.

Funding Availability: For the SR3 Team Grants Program, the NIST Manufacturing Extension Partnership Program anticipates funding of approximately $200,000 annually. The expectation is to award one proposal. However, NIST MEP reserves the right to divide the total award amount to multiple recipients in the event that all the priorities cannot be met in their entirety by one proposal. Proposals may be subdivided and partially funded to accommodate this approach.

Proposal Review and Evaluation Criteria: NIST will conduct an initial screening of all applications received by the deadline for non-responsive proposals, which will not be considered further.

NIST will then appoint at least three independent, objective individuals with relevant expertise to conduct an objective evaluation of each responsive proposal in accordance with the evaluation criteria set forth in this Notice. The reviewers may discuss the proposals, but each reviewer will rate the proposals independently. No consensus advice will be given by the reviews.

Next, one or more Federal employees will establish a rank order of the proposals based on the reviewers' scores, statistically normalized if discrepancies in scoring are apparent, and will present the rank order and the reviewers' comments to the Selecting Official, the MEP Director. The Selecting Official will select proposals for prospective funding based on the rank order, the compatibility of the proposals with the program objective and priorities described above, and the availability of funds. The Selecting Official may select proposals out of rank order. If the Selecting Official selects out of rank order, they must justify the selection in writing based on these factors.

The final approval of selected applications and award of financial assistance will be made by the NIST Grants Officer, based on compliance with application requirements as published in this Notice, compliance with applicable legal and regulatory requirements, and whether the selected applicants appear to be competently managed, responsible, and committed to achieving the objectives of the awards they receive.

Applicants may be asked to modify objectives, work plans, or budgets and provide supplemental information required by NIST prior to award.

The decision of the Grants Officer is final.

Evaluation Criteria

1. Past performance, corporate capability, administration and management expertise (40 points).

(a) Experience and capability to conduct work of the type and the scope requested in this notice.

(b) Ability to develop and manage teams and multi-dimensional partnerships to support this objective.

(c) Experience conducting high quality analyses within time, scope and budget.

(d) Ability to provide stability, continuity, and uniformity of staff and management over the life of the award.

2. Technical approach (30 points).

(a) Tasks and overall direction, oversight, and allocation against the various elements required in this multi-faceted effort. Soundness of technical approach for managing resources.

(b) Proposer's understanding and experience operating in a fast-turnaround environment to conduct high quality research, evaluation, and program monitoring in support of the MEP system's policy and program needs.

3. Quality, experience, and breadth of technical and professional personnel (30 points).

(a) Experience with the MEP system, government or other public programs and polices. Preference is given to the categories of prior experience in the following order:

(1) Developed and maintained relationships with state economic development entities and other non-Federal MEP stakeholders.

(2) Developed and delivered technical assistance in the areas of manufacturing extension, technology deployment and manufacturing center performance.

Award Period: For the SR3 Team Grants Program, proposals will be considered from one to five years. When a proposal for a multi-year award is approved, funding will generally be provided for only the first year of the program. Funding for each subsequent year of a multi-year proposal will be contingent upon satisfactory progress and continued relevance to the mission of the SR3 Team Grants Program, and the availability of funds. If an application is selected for funding, NIST has no obligation to provide any additional funding in connection with that award. Renewal of an award to increase funding or extend the period of performance is at the total discretion of NIST. The multi-year awards must have scopes of work that can be easily separated into annual increments of meaningful work that represent solid accomplishments if prospective funding is not made available to the applicant (i.e., the scopes of work for each funding period must produce identifiable and meaningful results in and of themselves).

Matching Requirements: The SR3 Team Grants Program does not require any matching funds by the applicants.

Catalog of Federal Domestic Assistance Name and Number: Measurement and Engineering Research and Standards—11.609.

Application Kit: Each applicant must submit one signed original and two copies of the proposal along with a Grant Application Kit. An application kit, containing all required application forms and certifications is available by contacting Jennifer Ruggles, jruggles@mep.nist.gov, (301) 975-4749. It is also available at the website: www.mep.nist.gov.

The application kit includes the following:

SF 424 (Rev 7/97)—APPLICATION FOR FEDERAL ASSISTANCE

SF 424A (Rev 7/97)—BUDGET INFORMATION—Non-Construction Programs, including a detailed budget narrative explaining the details of each budget category and the basis for the cost. If indirect costs are included in the budget, a copy of the applicant's negotiated indirect cost rate must be submitted, if available.

SF 424B (7/97)—ASSURANCES—Non-Construction Programs

CD 511 (7/91)—CERTIFICATION REGARDING DEBARMENT, SUSPENSION, AND OTHER RESPONSIBILITY MATTERS; DRUG-FREE WORKPLACE REQUIREMENTS AND LOBBYING

CD 512 (7/91)—CERTIFICATION REGARDING DEBARMENT, SUSPENSION, INELIGIBILITY AND VOLUNTARY EXCLUSION—LOWER TIER COVERED TRANSACTIONS AND LOBBYING

SF-LLL—DISCLOSURE OF LOBBYING ACTIVITIES

CD-346—APPLICANT FOR FUNDING ASSISTANCE

Paperwork Reduction Act

The standard forms in the application kit involve a collection of information subject to the Paperwork Reduction Act. The use of Standard Forms 424, 424A, 424B, SF-LLL and CD-346 have been approved by OMB under the respective Control Numbers 0348-0043, 0348-0044, 0348-0040, 0348-0046, and 0605-0001.

Notwithstanding any other provision of the law, no person is required to respond to, nor shall any person be subject to a penalty for failure to comply with, a collection of information subject to the Paperwork Reduction Act, unless that collection displays a currently valid OMB Control Number.

Research Projects Involving Human Subjects, Human Tissue, Data or Recordings Involving Human Subjects

Any proposal that includes research involving human subjects, human tissue, data or recordings involving human subjects must meet the requirements of the Common Rule for the Protection of Human Subjects, codified for the Department of Commerce at 15 CFR part 27. In addition, any proposal that includes research on these topics must be in compliance with any statutory requirements imposed upon NIH and other federal agencies regarding these topics, all regulatory policies and guidance adopted by NIH, FDA, and other federal agencies on these topics, and all Presidential statements of policy on these topics.

On December 3, 2000, the U.S. Department of Health and Human Services (DHHS) introduced a new Federalwide Assurance of Protection of Human Subjects (FWA). The FWA covers all of an institution's Federally-supported human subjects research, and eliminates the need for other types of Assurance documents. In anticipation of the new Assurance, the Office for Human Research Protections (OHRP) has suspended processing of multiple project assurance (MPA) renewals. All existing MPAS will remain in force until further notice. For information about FWAs, please see the OHRP website at http://ohrp.osophs.dhhs.gov/irbasur.htm.

In accordance with the DHHS change,. NIST will continue to accept the submission of human subjects protocols that have been approved by Institutional Review Boards (IRBs) prossessing a current, valid MPA from DHHS. NIST also will accept the submission of human subjects protocols that have been approved by IRBs possessing a current, valid FWA from DHHS. NIST will not issue an SPA for any IRB reviewing any human subjects protocol proposed to NIST.

Research Projects Involving Vertebrate Animals

Any proposal that includes research involving vertebrate animals must be in compliance with the National Research Council's “Guide for the Care and Use of Laboratory Animals” which can be obtained from National Academy Press, 2101 Constitution Avenue, NW, Washington, DC 20055. In addition, such proposals must meet the requirements of the Animal Welfare Act (7 U.S.C. 2131 et seq.), 9 CFR parts, 1, 2, and 3, and if appropriate, 21 CFR part 58. These regulations do not apply to proposed research using pre-existing images of animals or to research plans that do not include live animals that are being cared for, euthanased, or used by the project participants to accomplish research goals, teaching, or testing. These regulations also do not apply to obtaining animal materials from commercial processors of animal products or to animal cell lines or tissues from tissue banks.

Type of Funding Instrument

The funding instrument will be a grant or cooperative agreement, depending on the nature of the proposed work. A grant will be used unless NIST is “substantially involved” in the project, in which case a cooperative agreement will be used. A common example of substantial involvement is collaboration between NIST scientists and recipient scientists or technicials. Further examples are listed in Section 5.03.d of Department of Commerce Administrative Order 203-26, which can be found at http://www.osec.doc.gov/bmi/daos/203-26.htm. NIST will make decisions regarding the use of a cooperative agreement on a case-by-case basis. Funding for contractual arrangements for services and products for delivery to NIST is not available under this announcement.

Additional Requirements

Primary Application Certifications

All primary applicant institutions must submit a completed form CD-511, “Certifications Regarding Debarment, Suspension and Other Responsibility Matters; Drug-Free Workplace Requirements and Lobbying,” and the following explanations must be provided:

1. Nonprocurement Debarment and Suspension. Prospective participants (as defined at 15 CFR part 26, section 105) are subject to 15 CFR part 26, “Nonprocurement Debarment and Suspension” and the related section of the certification form prescribed above applies;

2. Drug-Free Workplace. Grantees (as defined at 15 CFR part 26, section 605) are subject to 15 CFR part 26, Subpart F, “Government wide Requirements for Drug-Free Workplace (Grants)” and the related section of the certification form prescribed above applies;

3. Anti-Lobbying. Persons (as defined at 15 CFR part 28, Section 105) are subject to the lobbying provisions of 31 U.S.C. 1352, “Limitation on use of appropriated funds to influence certain Federal contracting and financial transactions,.” and the lobbying section of the certification form prescribed above applies to application/bids for grants, cooperative agreements, and contracts for more than $100,000, and loans and loan guarantees for more than $150,000, or the single family maximum mortgage limit for affected programs, whichever is greater.

4. Anti-Lobbying Disclosure. Any applicant institution that has paid or will pay for lobbying using any funds must submit an SF-LLL, “Disclosure of Lobbying Activities,” as required under 15 CFR part 28, Appendix B.

5. Lower-Tier Certifications. Recipients shall require applicant/bidder institutions for subgrants, contracts, subcontracts, or other tier covered transactions at any tier under the award to submit, if applicable, a completed Form CD-512, “Certifications Regarding Debarment, Suspension, Ineligibility and Voluntary Exclusion—Lower Tier Covered Transactions and Lobbying” and disclosure form, SF-LLL, “Disclosure of Lobbying Activities.” Form CD-512 is intended for the use of recipients and should not be transmitted to NIST. SF-LLL submitted by any tier recipient or subrecipient should be submitted to NIST in accordance with the instructions contained in the award document.

Name Check Reviews

All for-profit and non-profit applicants will be subject to a name check review process. Name checks are intends to reveal if any key individuals associated with the applicant have been convicted or are presently facing, criminal charges such as fraud, theft, perjury, or other matters which significantly reflect on the applicant's management honesty or financial integrity. Form CD-346 must be completed for all personnel with key programmatic or fiduciary responsibilities.

Preaward Activities

Applicants (or their institutions) who incur any costs prior to an award being made do so solely at their own risk of not being reimbursed by the Government. Notwithstanding any verbal assurance that may have been provided, there is no obligation on the part of NIST to cover pre-award costs.

No Obligation for Future Funding

If an application is accepted for funding, DOC has no obligation to provide any additional future funding in connection with that award. Renewal of an award to increase funding or extend the period of performance is at the total discretion of NIST.

Past Performance

Unsatisfactory performance under prior Federal awards may result in an application not being considered for funding.

False Statements

A false statement on an application is grounds for denial or termination of funds, and grounds for possible punishment by a fine or imprisonment as provided in 18 U.S.C. 1001.

Delinquent Federal Debts

No award of Federal funds shall be made to an applicant who has an outstanding delinquent Federal debt until either:

1. The delinquent account is paid in full,

2. A negotiated repayment schedule is established and at least one payment is received, or

3. Other arrangements satisfactory to DoC are made.

Indirect Costs: Regardless of any approved indirect cost rate applicable to the award, the maximum dollar amount of allocable indirect costs for which the DoC will reimburse the Recipient shall be the lesser of:

(a) The Federal Share of the total allocable indirect costs of the award based on the negotiated rate with the cognizant Federal agency as established by audit or negotiation; or

(b) the line item amount for the Federal share of indirect costs contained in the approved budget of the award.

Purchase of American-made Equipment and Products: Applicants are hereby notified that they are encouraged, to the greatest practicable extent, to purchase American-made equipment and products with funding provided under this program.

Federal Policies and Procedures: Recipients and subrecipients of the SR3 Team Grants Program shall be subject to all Federal laws and Federal and Departmental regulations, policies and procedures applicable to financial assistance awards, including 15 CFR Part 14 and 15 CFR Part 24, as applicable.

The SR3 Team Grants Program does not directly affect any state or local government.

Applications under the SR3 Team Grants Program are not subject to Executive Order 12372, “Intergovernmental Review and Federal Programs.”

Executive Order Statement: This funding notice was determined to be “not significant” for purposes of Executive Order 12866.

Dated: September 26, 2001.
Karen H. Brown,
Deputy Director.

[FR Doc. 01-24928 Filed 10-3-01; 8:45 am]

BILLING CODE 3510-13-M